DEPARTMENT OF THE INTERIOR

Bureau of Land Management

[CO-150-1610-DU]

Notice of Intent To Amend Uncompahgre Basin and San Juan/San Miguel Resource Management Plans and Prepare the Dry Creek Comprehensive Travel Management Plan, Colorado

AGENCY: Bureau of Land Management, Interior.

ACTION: Notice of intent.

SUMMARY: This document provides notice that the Bureau of Land Management (BLM) Uncompahgre Field Office, Montrose, Colorado proposes to initiate a comprehensive planning effort that would amend the Uncompahgre Basin and San Juan/San Miguel Resource Management Plans (RMPs) to address travel management within the Field Office until a Resource Management Plan Revision can be completed.

DATES: This notice initiates the public scoping process. Comments and resource information should be submitted to the BLM within 45 days of publication of this notice in the Federal Register. Public meetings will be held during the plan scoping period. All public meetings will be announced through the local news media and notices will be provided at least two weeks prior to the event.

ADDRESSES: You may submit written comments by any of the following methods:

• Mail: Bureau of Land Management, Uncompahgre Field Office, ATTN: Travel Management, 2465 S. Townsend Ave., Montrose, Colorado 81401.

• Fax: 970-240-5368.

• E-mail: cotmpufo@blm.gov.

Documents pertinent to this proposal may be examined at the Uncompahgre Field Office (UFO) or on the Field Office Web site (http://www.co.blm.gov/ubra/index.html). Comments, including names and street addresses of respondents, will be available for public review at the UFO during regular business hours (8 a.m. to 4:30 p.m.), Monday through Friday, except holidays, and may be published as part of the Environmental Assessment. Before including your address, phone number, e-mail address, or other personal identifying information in your comment, be advised that your entire comment—including your personal identifying information—may be made publicly available at any time. While you can ask us in your comment to withhold from public review your personal identifying information, we cannot guarantee that we will be able to do so. All submissions from organizations or businesses, and from individuals identifying themselves as representatives or officials of organizations or businesses, will be available for public inspection in their entirety.

FOR FURTHER INFORMATION CONTACT: For further information and/or to have your name added to our mailing list, contact Julie Stotler, Uncompahgre Field Office, at (970) 240-5310. Comments may be sent electronically to cotmpufo@blm.gov.

SUPPLEMENTARY INFORMATION: In response to recommendations made by the Southwest Resource Advisory Council and other concerned individuals, clubs, and organizations, the BLM proposes to change the existing “Open” designation to “Limited to Existing” for all public lands administered by the field office. In addition, the BLM is proposing a comprehensive travel management plan establishing a transportation system of designated roads and trails within the Dry Creek area.

The proposed action does not affect:

• Travel decisions in the Gunnison Gorge National Conservation Area.

• North Delta OHV Play Area, which will be addressed in subsequent travel management planning.

• Gunnison Travel Interim Restrictions Plan Amendment area, which will be addressed in subsequent travel management planning.

• Other designations such as “Limited to Existing” and “Limited to Designated” areas in the RMPs. These areas will be addressed in subsequent travel management planning.

Preliminary issues and management concerns have been identified by BLM personnel, other agencies, and in meetings with individuals and user groups. They represent the BLM's knowledge to date on the existing issues and concerns with current management. Some of these issues and concerns include:

• Impacts to other public land users and adjacent private landowners;

• Impacts to wildlife habitat;

• Impacts to water quality, cultural sites, vegetation, including riparian and wetland areas, and soils; and

• Identification of recreational opportunities.

These issues, along with others that may be identified through public participation, will be considered in the planning process. The public is encouraged to help identify issues and concerns during the scoping phase. The purpose of the public scoping process is to determine relevant issues that will influence the scope of the environmental analysis and management alternatives. These issues will also guide the planning process. You may submit comments on issues and planning criteria in writing to the BLM at any public scoping meeting, or by using one of the methods listed in the ADDRESSES section above. The minutes and list of attendees for each scoping meeting will be available to the public and open for 30 days after the meeting to any participant who wishes to clarify the views he or she expressed.

An interdisciplinary approach will be used to develop the plan amendment in order to consider the variety of resource issues and concerns identified. Disciplines involved in the planning process will include specialists with expertise in rangeland management, outdoor recreation, law enforcement, archaeology, wildlife and fisheries, lands and realty, hydrology, soils, and vegetation. Notification of the planning process will be made to the Governor of Colorado, County Commissioners, local tribes, and potentially affected members of the public.

Barbara Sharrow,
Field Manager, Uncompahgre Field Office.

[FR Doc. E7-4089 Filed 3-6-07; 8:45 am]

BILLING CODE 4310-GG-P